DEPARTMENT OF DEFENSE

Office of the Secretary

[Transmittal No. 25-98]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-98, Policy Justification, and Sensitivity of Technology.

Dated: February 5, 2026.
Stephanie J. Bost,
Alternate OSD Federal Register Liaison Officer, Department of Defense.

BILLING CODE 6001-FR-P

BILLING CODE 6001-FR-C

Transmittal No. 25-98

Notice of Proposed Issuance of Letter of Offer Pursuant to Section 36(b)(1) of the Arms Export Control Act, as Amended

(i) Prospective Purchaser: Government of Canada

(ii) Total Case Estimated Value:

Major Defense Equipment * | $2.20 billion
Other | $ .48 billion
TOTAL | $2.68 billion

(iii) Description and Quantity or Quantities of Articles or Services under Consideration for Purchase:

Major Defense Equipment (MDE):

Up to seven hundred fifty (750) GBU-39 practice bombs inert with fuzes

Up to one hundred (100) GBU-39 Guided Test Vehicles (GTVs)

Up to one hundred (100) MK-82 inert filled bombs

Up to two hundred twenty (220) 2,000-lb BLU-117 General Purpose (GP) bombs

Up to one hundred forty-six (146) I-2000 penetrator warheads

Up to three thousand four hundred fourteen (3,414) BLU-111 500-lb GP bombs

Up to three thousand one hundred eight (3,108) GBU-39/B Small Diameter Bomb Increment I (SDB-I) bombs

Up to five thousand three hundred thirty-two (5,352) KMU-572 Joint Direct Attack Munition (JDAM) guidance sets

Up to three hundred ninety-six (396) KMU-556 JDAM guidance sets

Up to one hundred forty (140) KMU-557 JDAM guidance sets

Up to two thousand four (2,004) GBU-53 SDBs—Increment II (SDB-II)

Up to one hundred (100) GBU-53 SDB-II GTVs

Non-Major Defense Equipment:

The following non-MDE items will also be included: FMU-139 fuze systems; FMU-167 Hard Target Void Sensing Fuzes (HTVSF); DSU-38 laser illuminated target detectors for GBU-54; practice bombs; ammunition tools and special equipment; major and minor modifications equipment; spare and repair parts, consumables and accessories, and repair and return support; weapons and weapon support equipment; test equipment; training aids, devices, and spare parts; classified and unclassified software and software support; classified and unclassified publications and technical documentation; United States (U.S.) Government and contractor technical, engineering, and logistics personnel services; and other related elements of logistics and program support.

(iv) Military Department: Air Force (CN-D-QDH)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: December 4, 2025

* as defined in Section 47(6) of the Arms Export Control Act.

POLICY JUSTIFICATION

Canada—Air Strike Weapons

The Government of Canada has requested to buy up to seven hundred fifty (750) GBU-39 practice bombs inert with fuzes; up to one hundred (100) GBU-39 Guided Test Vehicles (GTVs); up to one hundred (100) MK-82 inert filled bombs; up to two hundred twenty (220) 2,000-lb BLU-117 General Purpose (GP) bombs; up to one hundred forty-six (146) I-2000 penetrator warheads; up to three thousand four hundred fourteen (3,414) BLU-111 500-lb GP bombs; up to three thousand one hundred eight (3,108) GBU-39 Small Diameter Bomb Increment I (SDB-I) bombs; up to five thousand three hundred thirty-two (5,352) KMU-572 Joint Direct Attack Munition (JDAM) guidance sets; up to three hundred ninety-six (396) KMU-556 JDAM guidance sets; up to one hundred forty (140) KMU-557 JDAM guidance sets; up to two thousand four (2,004) GBU-53 SDBs—Increment II (SDB-II); and up to one hundred (100) GBU-53 SDB-II GTVs. The following non-MDE items will also be included: FMU-139 fuze systems; FMU-167 Hard Target Void Sensing Fuzes (HTVSF); DSU-38 laser illuminated target detectors for GBU-54; practice bombs; ammunition tools and special equipment; major and minor modifications equipment; spare and repair parts, consumables and accessories, and repair and return support; weapons and weapon support equipment; test equipment; training aids, devices, and spare parts; classified and unclassified software and software support; classified and unclassified publications and technical documentation; U.S. Government and contractor technical, engineering, and logistics personnel services; and other related elements of logistics and program support. The estimated total cost is $2.68 billion.

This proposed sale will support the foreign policy and national security objectives of the U.S. by helping to improve the military capability of a NATO Ally that is an important force for ensuring political stability and economic progress and is a contributor to military, peacekeeping, and humanitarian operations around the world.

The proposed sale will improve Canada's credible defense capability to deter aggression in the region, ensure interoperability with U.S. forces, and strengthen Canada's ability to contribute to shared continental defense. Canada will have no difficulty absorbing this equipment into its armed forces.

The proposed sale of this equipment and support will not alter the basic military balance in the region.

The principal contractors will be The Boeing Company, located in Arlington, VA; and RTX Corporation, located in Arlington, VA. At this time, the U.S. Government is not aware of any offset agreement proposed in connection with this potential sale. Any offset agreement will be defined in negotiations between the purchaser and the contractor.

Implementation of this proposed sale will not require the assignment of any additional U.S. Government or contractor representatives to Canada.

There will be no adverse impact on U.S. defense readiness as a result of this proposed sale.

Transmittal No. 25-98

Notice of Proposed Issuance of Letter of Offer Pursuant to Section 36(b)(1) of the Arms Export Control Act

Annex

Item No. vii

(vii) Sensitivity of Technology:

1. The GBU-39 Small Diameter Bomb Increment 1 (SDB-I) all-up-round (AUR) is a 250-lb Global Positioning System/Inertial Navigation System (GPS/INS) aided small autonomous, day or night, adverse weather, conventional, air-to-ground precision glide weapon able to strike fixed and stationary relocatable non-hardened targets from standoff ranges. The SDB system employs a smart carriage capable of carrying four 250-lb class guided air-to-surface munitions. It is capable of destroying high-priority fixed and stationary targets from Air Force fighters and bombers in internal bays or on external hard-points. SDB increases aircraft loadout, decreases the logistical footprint, decreases collateral damage, and improves aircraft sortie generation times.

a. The SDB-I Guided Test Vehicle (GTV) is a SDB-I configuration used for land or sea range-based testing of the SDB I weapon system. The GTV has common flight characteristics of an SDB-I AUR, but in place of the multi-effects warhead is a Flight Termination, Tracking, and Telemetry (FTTT) subassembly that mirrors the AUR multi-effects warhead's size and mass properties but provides safe flight termination, free flight tracking, and telemetry of encrypted data from the GTV to the data receivers. The SDB I GTV can have either inert or live fuses. All other flight control, guidance, data-link, and seeker functions are representative of the SDB-I AUR.

2. The GBU-53 Small Diameter Bomb Increment II (SDB-II) AUR is a 250-lb precision-guided, semiautonomous, conventional, air-to-ground munition used to defeat targets through adverse weather. The SDB-II has deployable wings and fins and uses GPS/INS guidance, network-enabled datalink (Link-16 and ultra high frequency), and a multi-mode seeker (millimeter wave radar, imaging infrared, semi-active laser) to autonomously search, acquire, track, and defeat a variety of moving or stationary targets at standoff ranges in a variety of attack modes. The SDB-II employs a multi-effects warhead (blast, fragmentation, and shaped-charge) for maximum lethality against armored and soft targets. The SDB-II weapon system consists of the tactical AUR weapon, a 4-place common carriage system, and mission planning system munitions application program (MAP).

a. The SDB-II GTV is a SDB-II configuration used for land or sea range-based testing of the SDB-II weapon system. All other elements of the SDB-II GTV are equivalent to SDB-I GTV elements.

3. The Joint Direct Attack Munition (JDAM) consist of a bomb body paired with a warhead-specific tail kit containing GPS/INS guidance capability that converts unguided free-fall bombs into accurate, adverse weather “smart” munitions. The JDAM weapon can be delivered from modest standoff ranges at high or low altitudes against a variety of land and surface targets during the day or night. The JDAM can receive target coordinates via preplanned mission data from the delivery aircraft, by onboard aircraft sensors (i.e., FLIR, radar, etc.) during captive carry, or from a third-party source via manual or automated aircrew cockpit entry.

a. The GBU-31 is a 2,000-lb JDAM, and consists of a KMU-556 tail kit and BLU-117 or MK-84 bomb body.

b. The GBU-38 is a 500-lb JDAM, and consists of a KMU-572 tail kit and BLU-111 or MK-82 bomb body.

4. The GBU-54 Laser JDAM (LJDAM) is a 500-lb JDAM which incorporates all the capabilities of the JDAM guidance tail kit and adds a precision laser guidance set. The LJDAM gives the weapon system an optional semi-active laser guidance in addition to the INS/GPS guidance. This provides the capability to strike moving targets. The GBU-54 consists of a DSU-38 laser guidance set and bomb body with appropriate KMU-5XX tail kit.

5. The MK-82 General Purpose (GP) bomb is a 500-lb, free-fall, unguided, low-drag weapon. The MK-82 is designed for soft, fragment-sensitive targets and is not intended for hard targets or penetrations. The explosive filling is usually tritonal, though other compositions have sometimes been used.

6. The BLU-111 is a 500-lb, free-fall, unguided, low-drag weapon. The MK-82 is designed for soft, fragment-sensitive targets and is not intended for hard targets or penetrations. The explosive filling is tritonal.

7. The BLU-117 GP bomb is a 2,000-lb, free-fall, unguided, high and low-drag weapon designed to be functionally equivalent to the MK-84. It may slightly differ in explosive filler or manufacturer details.

8. The FMU-139 Joint Programmable Fuze (JPF) is a multi-delay, multi-arm, and proximity sensor compatible with general purpose blast, frag, and hardened-target penetrator weapons. The JPF settings are cockpit selectable in flight when used with numerous precision-guided weapons.

9. The highest level of classification of defense articles, components, and services included in this potential sale is SECRET.

10. If a technologically advanced adversary were to obtain knowledge of the specific hardware and software elements, the information could be used to develop countermeasures that might reduce weapon system effectiveness or be used in the development of a system with similar or advanced capabilities.

11. A determination has been made that Canada can provide substantially the same degree of protection for the sensitive technology being released as the U.S. Government. This sale is necessary in furtherance of the U.S. foreign policy and national security objectives outlined in the Policy Justification.

12. All defense articles and services listed in this transmittal have been authorized for release and export to the Government of Canada.

[FR Doc. 2026-02524 Filed 2-6-26; 8:45 am]

BILLING CODE 6001-FR-P